DEPARTMENT OF HOMELAND SECURITY

Coast Guard

[Docket No. USCG-2011-0138]

Merchant Mariner Medical Advisory Committee

AGENCY: Coast Guard, DHS.

ACTION: Notice of Federal Advisory Committee Meeting.

SUMMARY: The Merchant Mariner Medical Advisory Committee (MEDMAC) will meet on March 14-15, 2013 to discuss matters relating to medical certification determinations for issuance of merchant mariner credentials, medical standards and guidelines for physical qualifications of operators of commercial vessels, medical examiner education, and medical research. The meeting will be open to the public.

DATES: MEDMAC will meet on Thursday, March 14, and Friday, March 15, 2013, from 8:00 a.m. to 5:30 p.m. Please note that the meeting may close early if the committee has completed its business.

ADDRESSES: The meeting will be held at the Houston Pilots facility, 203 Deerwood Glen Drive, Deer Park, TX 77536.

For information on facilities or services for individuals with disabilities or to request special assistance at the meeting, contact Lieutenant Ashley Holm, the MEDMAC Alternate Designated Federal Officer (ADFO), 202-372-1128 as soon as possible.

To facilitate public participation, we are inviting public comment on the issues to be considered by the committee as listed in the “Agenda” section below. Comments must be submitted in writing to the Coast Guard on or before March 4, 2013 and must be identified by USCG-2011-0138 and may be submitted by one of the following methods:

• Federal eRulemaking Portal: http://www.regulations.gov. Follow the instructions for submitting comments (preferred method to avoid delays in processing).

• Fax: 202-493-2251.

• Mail: Docket Management Facility (M-30), U.S. Department of Transportation, West Building Ground Floor, Room W12-140, 1200 New Jersey Avenue SE., Washington, DC 20590-0001.

• Hand delivery: Same as mail address above, between 9 a.m. and 5 p.m., Monday through Friday, except Federal Holidays. The telephone number is 202-366-9329.

Instructions: All submissions received must include the words “Department of Homeland Security” and the docket number for this action. Comments received will be posted without alteration at http://www.regulations.gov, including any personal information provided. You may review a Privacy Act notice regarding our public dockets in the January 17, 2008, issue of the Federal Register (73 FR 3316). If you would like a copy of your material distributed to each member of the committee in advance of the meeting, please provide an electronic copy to the ADFO, no later than March 4, 2013. Your materials will be placed on the MEDMAC Web site https://homeport.uscg.mil to be made available to the members of the committee and the public.

Docket: For access to the docket to read background documents or comments related to this notice, go to http://www.regulations.gov and enter “USCG-2011-0138” in the “SEARCH” box.

A public comment period will be held on March 14, 2013, from approximately 9:15 a.m. to 9:45 a.m., and on March 15, 2013 from approximately 4:40 p.m. to 5:00 p.m. Speakers are requested to limit their comments to 5 minutes. Please note that the public comment period may end before the time indicated, following the last call for comments. Additionally, public comment will be sought throughout the meeting as specific tasks and issues are discussed by the committee. Contact the individual listed below to register as a speaker.

FOR FURTHER INFORMATION CONTACT: Lieutenant Ashley Holm, the MEDMAC ADFO, at telephone 202-372-1128 or email Ashley.e.holm@uscg.mil. If you have questions on viewing or submitting material to the docket, call Barbara Hairston, Program Manager, Docket Operations, telephone 202-366-9826.

SUPPLEMENTARY INFORMATION: Notice of this meeting is given under the Federal Advisory Committee Act, 5 U.S.C. App. (Pub. L. 92-463). The MEDMAC is authorized by 46 U.S.C. 7115 as amended by section 210 of the Coast Guard Authorization Act of 2010 (Pub. L. 111-281) and advises the Secretary on matters related to (a) Medical certification determinations for issuance of licenses, certificates of registry, and merchant mariners' documents; (b) medical standards and guidelines for the physical qualifications of operators of commercial vessels; (c) medical examiner education; and (d) medical research.

Agenda

Day 1, March 14

(1) Remarks from Presiding Officer of the Houston Pilots, Captain Robert Thompson.

(2) Opening comments by Designated Federal Officer (DFO), Captain K.P. McAvoy.

(3) Remarks from the Director of Inspections and Compliance, Captain P.F. Thomas.

(4) Introduction and swearing in of the new member, Chair and Vice-Chair designations.

(5) Review of Last Full Committee Meeting's Minutes.

(6) Public Comments.

(7) Working Groups reports out.

(8) Working Groups addressing the following task statements may meet to deliberate—

(a) Task Statement 1, Revision of Navigation and Vessel Inspection Circular (NVIC) 04-08. The NVIC can be found at http://www.uscg.mil/hq/cg5/nvic/ Medical and Physical Guidelines for Merchant Mariner Credentials.

(b) Task Statement 2, Top medical conditions leading to denial of mariner credentials.

(c) Task Statement 4, Revising the CG-719K Medical Evaluation Report Form for mariner physicals. The form can be found at http://www.uscg.mil/nmc.

(d) Task Statement 5, Creating medical expert panels for the top medical conditions.

(e) Task Statement 6, Developing designated medical examiner program.

Day 2, March 15

(1) Presentation by the Heart Rhythm Society (Task 1 & 2).

(2) Continue work on Task Statements.

(3) By mid-afternoon, the Working Groups will report, and if applicable, make recommendations for the full committee to consider for presentation to the Coast Guard. The committee may take official action on these recommendations on this date. The public will have an opportunity to speak after each Working Group's Report before the full committee takes any action on each report.

(4) Public Comments.

(5) Closing remarks/plans for next meeting.

Dated: February 8, 2013.
P.F. Thomas,
Captain, U.S. Coast Guard, Director of Inspections and Compliance.

[FR Doc. 2013-03548 Filed 2-14-13; 8:45 am]

BILLING CODE 9110-04-P